DEPARTMENT OF JUSTICE

Amended Clean Water Act Consent Decree With Icicle Seafoods, Inc.

AGENCY: Department of Justice.

ACTION: Notice of availability for public comment.

SUMMARY: Notice is hereby given that on July 18, 2003, an Amended Consent Decree in United States v. Icicle Seafoods, Inc., Docket No. A03-0142 CV (JWS), was lodged with the United States District Court for the District of Alaska. In this action brought pursuant to section 309 of the Clean Water Act, as amended, 33 U.S.C. 1319, the United States has requested the imposition of civil penalties and injunctive relief on Icicle Seafoods, Inc. (Icicle). This action arose out of Icicle's operation of its Seward Fisheries Facility in Seward, Alaska. The United States has alleged that Icicle discharged seafood processing waste from that facility to waters of the United States without a permit on various days in 2000 and 2001 and that the company failed to meet several of the discharge and reporting requirements of its authorization to discharge under the general National Pollutant Discharge Elimination System permit for seafood processors in Alaska (General Permit) on numerous days between January of 1998 and October of 2001, all in violation of section 301 of the Clean Water Act, 33 U.S.C. 1311.

Like the Consent Decree that was lodged with the court on June 26, 2003, the Amended Consent Decree requires Icicle to pay an $85,000 civil penalty and perform several measures of injunctive relief at the Seward Fisheries Facility. The first element of injunctive relief, requiring that Icicle render salmon heads and waste salmon carcasses into fish meal during the 2003 processing season and provide related reporting to the Environmental Protection Agency (EPA), allowed Icicle to barge that salmon processing waste to an EPA-approved at-sea discharge location when the fish meal plant was inoperative and Icicle could not freeze that waste or dispose of it by means other than marine discharge. The Amended Consent Decree allows an additional exception for at-sea discharges of such waste during the period July 11—July 31, 2003. This exception may be invoked if the fish meal plant is operating at full capacity and Icicle cannot freeze or dispose of salmon heads and waste salmon carcasses by means other than marine discharge. The other injunctive relief measures Icicle is to implement remain the same. They concern the reduction of foam generated by the transfer of fresh seafood from catcher vessels to the Seward Fisheries Facility for processing; means to prevent the introduction of fish hooks into the grinders used to chop seafood processing waste into ½” pieces that can be discharged under the General Permit; the monitoring of the underwater waste pile created by discharges from the Seward Fisheries Facility prior to 2002; and improvement of internal operating procedures.

DATES: The Department of Justice will receive for a period of thirty (30) days from the date of this publication comments relating to the Consent Decree.

ADDRESSES: Comments should be addressed to the Assistant Attorney General, Environment and Natural Resources Division, United states Department of Justice and sent to 801 B Street, Suite 504, Anchorage, Alaska 99501-3657. Comments should refer to United States v. Icicle Seafoods, Inc., D.J. Ref. #90-5-1-1-07395. During the public comment period, the Decree may be examined during business hours at the same address by contacting Lorraine Carter (907-271-5452) or on the following Department of Justice Web site, http://www.usdoj.gov/enrd/open.html. The Amended Consent Decree may also be examined at the Office of the Regional Counsel, EPA Region 10, 1200 Sixth Avenue, Seattle, Washington 98101, by contacting Meg Silver (206) 553-1476). A copy of the Amended Consent Decree may be obtained by contacting Lorraine Carter in writing at the address above or via electronic mail (lorraine.carter@usdoj.gov). In requesting a copy by mail, please enclose a check in the amount of $5.00 (25 cents per page reproduction cost) payable to the U.S. Treasury.

Authority: 28 CFR 50.7.

Robert E. Maher, Jr.,
Assistant Section Chief, Environmental Enforcement Section, Environment and Natural Resources Division.

[FR Doc. 03-19438 Filed 7-30-03; 8:45 am]

BILLING CODE 4410-15-M